ENVIRONMENTAL PROTECTION AGENCY

40 CFR Part 721

[EPA-HQ-OPPT-2017-0366; FRL-9999-12]

RIN 2070-AB27

Significant New Use Rules on Certain Chemical Substances; Technical Correction

AGENCY: Environmental Protection Agency (EPA).

ACTION: Final rule; technical correction.

SUMMARY: EPA issued a final rule in the Federal Register of August 20, 2019 for 145 chemical substances that were the subject of premanufacture notices (PMNs). For the chemical substances that were the subjects of PMNs P-17-33, P-17-87, P-17-88 and P-17-101, EPA inadvertently listed incorrect Chemical Abstract Service (CAS) Registry Numbers. This document is being issued to correct these errors.

DATES: This technical correction is effective on October 22, 2019.

ADDRESSES: The docket for this action, identified by docket identification (ID) number EPA-HQ-OPPT-2017-0366, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT:

For technical information contact: Kenneth Moss, Chemical Control Division, Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. What does this technical correction do?

EPA issued a final rule in the Federal Register of August 20, 2019 (84 FR 43266) (FRL-9994-72) for significant new uses for 145 chemical substances that were the subject of PMN notices. EPA included the wrong Chemical Abstracts Service (CAS) Registry Numbers for four of the chemical substances listed in the significant new use rules (SNURs) codified in 40 CFR 721.11053 (PMN P-17-33 and P-17-87), 40 CFR 721.11054 (PMN P-17-88) and 721.11055 (PMN P-17-101). This action corrects these errors as follows:

• In Table 1 to 40 CFR 721.11053—Halogenated Sodium Benzoate Salts, the CAS number for PMN P-17-33 is corrected from 6654-64-4 to 490-97-1 and the CAS number for PMN P-17-87 is corrected from 938142-13-2 to 1938142-13-2.

• In Table 1 to 40 CFR 721.11054—Halogenated Benzoic Acids, the CAS number for PMN P-17-88 will be corrected from 11007-16-5 to 1007-16-5.

• In Table 1 to 40 CFR 721.11055—Halogenated Benzoic Acid Ethyl Esters, the CAS number for PMN P-17-101 is corrected from 351354-50-2 to 139911-28-7.

II. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. Correcting the wrong CAS Registry numbers listed in the August 20, 2019 SNUR is necessary for the proper identification of the chemical substances. EPA finds that this constitutes good cause under 5 U.S.C. 553(b)(3)(B).

III. Do any of the statutory and Executive Order reviews apply to this action?

No. For a detailed discussion concerning the statutory and Executive Order review, refer to Unit XII. of the August 20, 2019 final rule.

IV. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: September 26, 2019.
Tala Henry,
Deputy Director, Office of Pollution Prevention and Toxics.

Therefore, 40 CFR part 721 is corrected as follows:

PART 721—[AMENDED]

1. The authority citation for part 721 continues to read as follows:

Authority: 15 U.S.C. 2604, 2607, and 2625(c).

2. In § 721.11053, revise paragraph (a)(1) to read as follows:

§ 721.11053 Certain halogenated sodium benzoate salts.

(a) Chemical substance and significant new uses subject to reporting. (1) The chemical substances listed in Table 1 of this section is subject to reporting under this section for the significant new uses described in paragraph (a)(2) of this section.

Table 1 to § 721.11053—Halogenated Sodium Benzoate Salts
PMN No. | CAS No. | Chemical name
P-17-33 | 490-97-1 | Benzoic acid, 2-fluoro-, sodium salt (1:1).
P-17-34 | 499-90-1 | Benzoic acid, 4-fluoro-, sodium salt (1:1).
P-17-36 | 67852-79-3 | Benzoic acid, 2,3,4,5-tetrafluoro-, sodium salt (1:1).
P-17-38 | 2966-44-1 | Benzoic acid, 2-(trifluoromethyl)-, sodium salt (1:1).
P-17-39 | 25832-58-0 | Benzoic acid, 4-(trifluoromethyl)-, sodium salt (1:1).
P-17-41 | 522651-42-9 | Benzoic acid, 2,5-difluoro-, sodium salt (1:1).
P-17-42 | 499-57-0 | Benzoic acid, 3-fluoro-, sodium salt (1:1).
P-17-43 | 6185-28-0 | Benzoic acid, 2,6-difluoro-, sodium salt (1:1).
P-17-45 | 530141-39-0 | Benzoic acid, 3,5-difluoro-, sodium salt (1:1).
P-17-47 | 1765-08-8 | Benzoic acid, 2,4-difluoro-, sodium salt (1:1).
P-17-50 | 522651-44-1 | Benzoic acid, 3,4-difluoro-, sodium salt (1:1).
P-17-52 | 1180493-12-2 | Benzoic acid, 3,4,5-trifluoro-, sodium salt (1:1).
P-17-55 | 402955-41-3 | Benzoic acid, 2,3,4-trifluoro-, sodium salt (1:1).
P-17-57 | 522651-48-5 | Benzoic acid, 2,4,5-trifluoro-, sodium salt (1:1).
P-17-59 | 1604819-08-0 | Benzoic acid, 2,3-difluoro-, sodium salt (1:1).
P-17-61 | 69226-41-1 | Benzoic acid, 3-(trifluoromethyl)-, sodium salt (1:1).
P-17-62 | 17264-74-3 | Benzoic acid, 2-chloro-, sodium salt (1:1).
P-17-63 | 3686-66-6 | Benzoic acid, 4-chloro-, sodium salt (1:1).
P-17-64 | 17264-88-9 | Benzoic acid, 3-chloro-, sodium salt (1:1).
P-17-66 | 118537-84-1 | Benzoic acid, 2,3-dichloro-, sodium salt (1:1).
P-17-67 | 63891-98-5 | Benzoic acid, 2,5-dichloro-, sodium salt (1:1).
P-17-69 | 154862-40-5 | Benzoic acid, 3,5-dichloro-, sodium salt (1:1).
P-17-71 | 10007-84-8 | Benzoic acid, 2,6-dichloro-, sodium salt (1:1).
P-17-72 | 17274-10-1 | Benzoic acid, 3,4-dichloro-, sodium salt (1:1).
P-17-73 | 38402-11-8 | Benzoic acid, 2,4-dichloro-, sodium salt (1:1).
P-17-75 | 855471-43-1 | Benzoic acid, 2-chloro-4-fluoro-, sodium salt.
P-17-76 | 1421761-18-3 | Benzoic acid, 3-chloro-4-fluoro-, sodium salt.
P-17-79 | 1382106-78-6 | Benzoic acid, 5-chloro-2-fluoro-, sodium salt.
P-17-80 | 1421029-88-0 | Benzoic acid, 4-chloro-3-fluoro-, sodium salt.
P-17-83 | 1382106-64-0 | Benzoic acid, 4-chloro-2-fluoro-, sodium salt.
P-17-85 | 1938142-12-1 | Benzoic acid, 5-bromo-2-chloro-, sodium salt.
P-17-87 | 1938142-13-2 | Benzoic acid, 3-bromo-4-fluoro-, sodium salt.
P-17-90 | 1938142-14-3 | Benzoic acid, 2-bromo-5-fluoro-, sodium salt.
P-17-91 | 1938142-15-4 | Benzoic acid, 4-bromo-2-fluoro-, sodium salt.
P-17-93 | 1535169-81-3 | Benzoic acid, 4-bromo-3-fluoro-, sodium salt.

* * * * *

3. In § 721.11054, revise paragraph (a)(1) to read as follows:

§ 721.11054 Certain halogenated benzoic acids.

(a) Chemical substance and significant new uses subject to reporting. (1) The chemical substances listed in Table 1 of this section is subject to reporting under this section for the significant new uses described in paragraph (a)(2) of this section.

Table 1 to § 721.11054—Halogenated Benzoic Acids
PMN No. | CAS No. | Chemical name
P-17-35 | 1201-31-6 | Benzoic acid, 2,3,4,5-tetrafluoro-.
P-17-37 | 433-97-6 | Benzoic acid, 2-(trifluoromethyl)-.
P-17-40 | 2991-28-8 | Benzoic acid, 2,5-difluoro-.
P-17-44 | 385-00-2 | Benzoic acid, 2,6-difluoro-.
P-17-46 | 455-40-3 | Benzoic acid, 3,5-difluoro-.
P-17-48 | 1583-58-0 | Benzoic acid, 2,4-difluoro-.
P-17-51 | 455-86-7 | Benzoic acid, 3,4-difluoro-.
P-17-53 | 121602-93-5 | Benzoic acid, 3,4,5-trifluoro-.
P-17-54 | 61079-72-9 | Benzoic acid, 2,3,4-trifluoro-.
P-17-56 | 446-17-3 | Benzoic acid, 2,4,5-trifluoro-.
P-17-58 | 4519-39-5 | Benzoic acid, 2,3-difluoro-.
P-17-60 | 454-92-2 | Benzoic acid, 3-(trifluoromethyl)-.
P-17-65 | 50-45-3 | Benzoic acid, 2,3-dichloro-.
P-17-68 | 51-36-5 | Benzoic acid, 3,5-dichloro-.
P-17-70 | 50-30-6 | Benzoic acid, 2,6-dichloro-.
P-17-74 | 2252-51-9 | Benzoic acid, 2-chloro-4-fluoro-.
P-17-77 | 394-30-9 | Benzoic acid, 5-chloro-2-fluoro-.
P-17-78 | 403-16-7 | Benzoic acid, 3-chloro-4-fluoro-.
P-17-81 | 403-17-8 | Benzoic acid, 4-chloro-3-fluoro-.
P-17-82 | 446-30-0 | Benzoic acid, 4-chloro-2-fluoro-.
P-17-84 | 21739-92-4 | Benzoic acid, 5-bromo-2-chloro-.
P-17-88 | 1007-16-5 | Benzoic acid, 3-bromo-4-fluoro-.
P-17-89 | 394-28-5 | Benzoic acid, 2-bromo-5-fluoro-.
P-17-92 | 153556-42-4 | Benzoic acid, 4-bromo-3-fluoro-.
P-17-97 | 112704-79-7 | Benzoic acid, 4-bromo-2-fluoro-.

* * * * *

4. In § 721.11055, revise paragraph (a)(1) to read as follows:

§ 721.11055 Certain halogenated benzoic acids ethyl esters.

(a) Chemical substance and significant new uses subject to reporting. (1) The chemical substances listed in Table 1 of this section is subject to reporting under this section for the significant new uses described in paragraph (a)(2) of this section.

Table 1 to § 721.11055—Halogenated Benzoic Acid Ethyl Esters
PMN No. | CAS No. | Chemical name
P-17-94 | 122894-73-9 | Benzoic acid, 2,3,4,5-tetrafluoro-, ethyl ester.
P-17-95 | 583-02-8 | Benzoic acid, 4-(trifluoromethyl)-, ethyl ester.
P-17-96 | 577-62-8 | Benzoic acid, 2-(trifluoromethyl)-, ethyl ester.
P-17-98 | 19064-14-3 | Benzoic acid, 2,6-difluoro-, ethyl ester.
P-17-99 | 708-25-8 | Benzoic acid, 2,5-difluoro-, ethyl ester.
P-17-100 | 351354-50-2 | Benzoic acid, 2,3,4-trifluoro-, ethyl ester.
P-17-101 | 139911-28-7 | Benzoic acid, 2-bromo-5-fluoro-, ethyl ester.
P-17-102 | 350-19-6 | Benzoic acid, 3,5-difluoro-, ethyl ester.
P-17-103 | 76008-73-6 | Benzoic acid, 5-bromo-2-chloro-, ethyl ester.
P-17-104 | 1128-76-3 | Benzoic acid, 3-chloro-, ethyl ester.
P-17-105 | 7335-25-3 | Benzoic acid, 2-chloro-, ethyl ester.
P-17-114 | 137521-81-4 | Benzoic acid, 3-chloro-4-fluoro-, ethyl ester.
P-17-122 | 474709-71-2 | Benzoic acid, 4-bromo-2-fluoro-, ethyl ester.
P-17-123 | 144267-97-0 | Benzoic acid, 2-bromo-4,5-difluoro-, ethyl ester.
P-17-124 | 1130165-74-0 | Benzoic acid, 4-bromo-3-fluoro-, ethyl ester.
P-17-125 | 23233-33-2 | Benzoic acid, 3-bromo-4-fluoro-, ethyl ester.
P-17-126 | 4793-20-8 | Benzoic acid, 4-chloro-2-fluoro-, ethyl ester.
P-17-127 | 35112-27-7 | Benzoic acid, 2,5-dichloro-, ethyl ester.
P-17-128 | 203573-08-4 | Benzoic acid, 4-chloro-3-fluoro-, ethyl ester.
P-17-129 | 167758-87-4 | Benzoic acid, 2-chloro-4-fluoro-, ethyl ester.
P-17-130 | 773139-56-3 | Benzoic acid, 5-chloro-2-fluoro-, ethyl ester.
P-17-131 | 108928-00-3 | Benzoic acid, 2,4-difluoro-, ethyl ester.
P-17-132 | 144267-96-9 | Benzoic acid, 3,4-difluoro-, ethyl ester.
P-17-133 | 495405-09-9 | Benzoic acid, 3,4,5-trifluoro-, ethyl ester.
P-17-134 | 351354-41-1 | Benzoic acid, 2,4,5-trifluoro-, ethyl ester.
P-17-135 | 76783-59-0 | Benzoic acid, 3-(trifluoromethyl)-, ethyl ester.
P-17-136 | 773134-65-9 | Benzoic acid, 2,3-difluoro-, ethyl ester.
P-17-137 | 81055-73-4 | Benzoic acid, 2,6-dichloro-, ethyl ester.
P-17-138 | 91085-56-2 | Benzoic acid, 3,5-dichloro-, ethyl ester.
P-17-139 | 56882-52-1 | Benzoic acid, 2,4-dichloro-, ethyl ester.
P-17-140 | 28394-58-3 | Benzoic acid, 3,4-dichloro-, ethyl ester.

* * * * *

[FR Doc. 2019-21716 Filed 10-9-19; 8:45 am]

BILLING CODE 6560-50-P